DEPARTMENT OF ENERGY

Agency Information Collection Extension

AGENCY: U.S. Department of Energy.

ACTION: Notice and request for comments.

SUMMARY: The Department of Energy (DOE), pursuant to the Paperwork Reduction Act of 1995), intends to extend for three years, an information collection package with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before February 23, 2004. If you anticipate difficulty in submitting comments within that period, contact the person listed below as soon as possible.

ADDRESSES: Written comments may be sent to Regina Washington or by fax at (202) 586-4617 or by e-mail at regina.washington@ee.doe.gov and to Susan L. Frey, Director, Records Management Division IM-11/Germantown Bldg., Office of Business and Information Management, Office of the Chief Information Officer, U.S. Department of Energy, 1000 Independence Ave, SW., Washington, DC 20585-1290, or by fax at 301-903-9061 or by e-mail at susan.frey@hqmail.

FOR FURTHER INFORMATION CONTACT: Susan L. Frey, Director, Records Management Division, Office of Business and Information Management, Office of the Chief Information Officer, U.S. Department of Energy, 1000 Independence Ave, SW., Washington, DC 20585-1290, (301)-903-3666, or e-mail susan.frey@hqmail.

SUPPLEMENTARY INFORMATION: This package contains: (1) OMB No. 1910-1400; (2) Package Title: Compliance Statement: Energy/Water Conservation Standards for Appliances; (3) Type of Review: Renewal; (4) Purpose: DOE will collect information from manufacturers to verify that products covered under the Energy Policy and Conservation Act comply with required energy conservation and water conservation standards prior to distributing these products in commerce. DOE will make a determination of compliance by examining manufacturer's compliance statements and certification reports that each basic model meets the applicable energy and water conservation standard as prescribed in section 325 of the Act; (5) Privacy Impact Assessment: Not Applicable; (6) Respondents: 48; (7) Estimated Number of Burden Hours: 1,347.

Statutory Authority: EPCA mandates the use of uniform energy and water conservation standards and testing procedures for covered products. DOE has previously established compliance reporting requirements in § 430.62 of 10 CFR part 430. The authority for certification reporting under part 430 is section 326(d) of Part B of Title III of EPCA which states:

“For purposes of carrying out this part, the Secretary may require, under this part [42 U.S.C. 6291 et seq.] or other provision of law administered by the Secretary, each manufacturer of a covered product to submit information or reports to the Secretary with respect to energy efficiency, energy use, or, in the case of showerheads, faucets, water closets, and urinals, water use of such covered product * * * to ensure compliance with the requirements of this part.” 42 U.S.C. 6296(d).

Issued in Washington, DC on December 18, 2003.
Sharon A. Evelin,
Acting Director, Records Management Division, Office of Business and Information Management, Office of the Chief Information Officer.

[FR Doc. 03-31702 Filed 12-23-03; 8:45 am]

BILLING CODE 6450-01-P